DEPARTMENT OF HEALTH AND HUMAN SERVICES

Indian Health Service

Notice To Propose the Re-Designation of the Service Delivery Area for the Tolowa Dee-ni' Nation (Smith River Rancheria)

AGENCY: Indian Health Service, Department of Health and Human Services.

ACTION: Notice.

SUMMARY: This notice advises the public that the Indian Health Service (IHS) proposes to expand the geographic boundaries of the Service Delivery Area for the Tolowa Dee-ni' Nation (Tribe) previously known as the Smith River Rancheria of Smith River, California. The Tolowa Dee-ni's Tribal Headquarters is located three miles south of the California-Oregon border in Northern California.

The entire State of California, excluding the counties of Alameda, Contra Costa, Los Angeles, Marin, Orange, Sacramento, San Francisco, San Mateo, Santa Clara, Kern, Merced, Monterey, Napa, San Benito, San Joaquin, San Luis Obispo, Santa Cruz, Solano, Stanislaus, and Ventura, are designated a Purchased/Referred Care (PRC) Service Delivery Area, formerly referred to as a Contract Health Service Delivery Area, by statute. The current Service Delivery Area for the Tolowa Dee-ni' Nation Tribal members is the statutorily established California PRC Service Delivery Area. The expanded PRC Service Delivery Area for the Tolowa Dee-ni' Nation includes the statutorily established California PRC Service Delivery Area and Curry County in the State of Oregon.

DATES: Comments must be submitted May 1, 2017.

ADDRESSES: In commenting, please refer to the title of this notice. Because of staff and resource limitations, we cannot accept comments by facsimile (FAX) transmission. You may submit comments in one of four ways (please choose only one of the ways listed):

1. Electronically. You may submit electronic comments on this regulation to http://www.regulations.gov. Follow the “Submit a Comment” instructions.

2. By regular mail. You may mail written comments to the following address ONLY: Evonne Bennett-Barnes, Indian Health Service, 5600 Fishers Lane, Mailstop: 09E70, Rockville, Maryland 20852.

Please allow sufficient time for mailed comments to be received before the close of the comment period.

3. By express or overnight mail. You may send written comments to the above address.

4. By hand or courier. If you prefer, you may deliver (by hand or courier) your written comments before the close of the comment period to the address above.

If you intend to deliver your comments to the Rockville address, please call telephone number (301) 443-1116 in advance to schedule your arrival with a staff member.

Comments will be made available for public inspection at the Rockville address from 8:30 a.m. to 5:00 p.m., Monday-Friday, two weeks after publication of this notice.

FOR FURTHER INFORMATION CONTACT: Terri Schmidt, Acting Director, Office of Resource Access and Partnerships, Indian Health Service, 5600 Fishers Lane, Mailstop: 10E85C, Rockville, Maryland 20852. Telephone 301/443-2694 (This is not a toll free number).

SUPPLEMENTARY INFORMATION:

Inspection of Public Comments: All comments received before the close of the comment period are available for viewing by the public, including any personally identifiable or confidential business information that is included in a comment.

Background: The IHS currently provides services under regulations codified at 42 CFR part 136, subparts A through C. Subpart C defines a Contract Health Service Delivery Area, now known as PRC Service Delivery Area, as the geographic area within which PRC will be made available by the IHS to members of an identified Indian community who reside in the Service Delivery Area. Potential eligibility for services alone, or residence in a PRC Service Delivery Area by a person who is within the scope of the Indian health program, as set forth in 42 CFR 136.12, does not create a legal entitlement to PRC. Services needed, but not available at an IHS/Tribal facility, are provided under the PRC program depending on the availability of funds, the person's relative medical priority, and the actual availability and accessibility of alternate resources in accordance with the regulations.

As applicable to the Tribes, these regulations provide that, unless otherwise designated, a PRC Service Delivery Area shall consist of a county which includes all or part of a reservation and any county or counties which have a common boundary with the reservation, 42 CFR 136.22(a)(6) (2016). The regulations also provide that after consultation with the Tribal governing body or bodies on those reservations included within the PRC Service Delivery Area, the Secretary may from time to time, re-designate areas within the United States for inclusion in or exclusion from a PRC Service Delivery Area. The regulations require that certain criteria must be considered before any re-designation is made. The criteria are as follows:

(1) The number of Indians residing in the area proposed to be so included or excluded;

(2) Whether the Tribal governing body has determined that Indians residing in the area near the reservation are socially and economically affiliated with the Tribes;

(3) The geographic proximity to the reservation of the area whose inclusion or exclusion is being considered; and

(4) The level of funding which would be available for the provision of PRC.

Additionally, the regulations require that any re-designation of a PRC Service Delivery Area must be made in accordance with the Administrative Procedures Act (5 U.S.C. 553). In compliance with this requirement, we are publishing this proposal and requesting public comments.

Congress designated the entire state of California as a PRC Service Delivery Area, excluding certain counties, under section 810 of the Indian Healthcare Improvement Act, Public Law 94-437, as amended (25 U.S.C. 1680). IHS has utilized the congressionally established PRC Service Delivery Area for the purposes of administering PRC benefits to members of the Tribe. Thus, members of the Tribe who reside outside of the statutorily established California PRC Service Delivery Area do not reside within the Tolowa Dee-ni's current PRC Service Delivery Area and are currently not eligible for PRC services.

IHS has historically established PRC Service Delivery Areas in accordance with Congressional intent but has preserved regulatory flexibility to re-designate areas as appropriate for inclusion in or exclusion from PRC service delivery under PRC regulations. One of the criteria for such re-designations is the geographic proximity of the expanded area to the existing reservation or service delivery area. Here, IHS proposes to expand the Tribe's PRC Service Delivery Area beyond the geographic description in 25 U.S.C. 1680 to include a county adjacent to the Tribe's existing PRC Service Delivery Area, in a neighboring state. There are already PRC Service Delivery Areas that include part of the state of California and part of another state, for example, Cocopah Tribe of Arizona, (Yuma, Arizona, and Imperial, California); Colorado River Indian Tribes of the Colorado River Indian Reservation, Arizona and California, (La Paz, Arizona; Riverside, California; San Bernardino, California; and Yuma, Arizona); Fort Mojave Indian Tribe of Arizona, California and Nevada, (Nevada; Mohave, Arizona; San Bernardino, California); and the Quechan Tribe of Fort Yuma Indian Reservation, California and Arizona, (Yuma, Arizona; and Imperial, California).

The Tolowa Dee-ni' Nation has a significant number of members who are not residents of California. According to the Tribe's estimates, 177 enrolled Tolowa Dee-ni' members are non-residents who remain actively involved with the Tribe, and reside in Curry County in the State of Oregon and are not currently eligible for PRC care.

Under 42 CFR 136.23, those otherwise eligible Indians who do not reside on a reservation, but reside within a PRC Service Delivery Area must be either members of the Tribe or other IHS beneficiaries who maintain close economic and social ties with the Tribe. In this case, in applying the aforementioned PRC Service Delivery Area re-designation criteria required by operative regulations codified at 42 CFR part 136, subpart C, the following findings are made:

1. By expanding, the Tribe estimates the current eligible population will be increased by 177.

2. The Tribe has determined that these 177 individuals are members of the Tribe and they are socially and economically affiliated with the Tribe.

3. The expanded area including Curry County in the State of Oregon maintains a common boundary with the State of California and the statutorily created California PRC Service Delivery Area.

4. Generally, the Tribal members located in Curry County in the State of Oregon currently do not use the Indian health system for their PRC health care needs. The Tribe will use its existing Federal allocation for PRC funds to provide services to the expanded population. No additional financial resources will be allocated by IHS to the Tribe to provide services to Tribal members residing in Curry County in the State of Oregon.

Purchased/Referred Care Service Delivery Areas
Tribe/reservation | County/state
Ak Chin Indian Community | Pinal, AZ.
Alabama-Coushatta Tribes of Texas | Polk, TX.¹
Alaska | Entire State.²
Arapahoe Tribe of the Wind River Reservation, Wyoming | Hot Springs, WY, Fremont, WY, Sublette, WY.
Aroostook Band of Micmacs | Aroostook, ME.³
Assiniboine and Sioux Tribes of the Fort Peck Indian Reservation, Montana | Daniels, MT, McCone, MT, Richland, MT, Roosevelt, MT, Sheridan, MT, Valley, MT.
Bad River Band of the Lake Superior Tribe of Chippewa Indians of the Bad River Reservation, Wisconsin | Ashland, WI, Iron, WI.
Bay Mills Indian Community, Michigan | Chippewa, MI.
Blackfeet Tribe of the Blackfeet Indian Reservation of Montana | Glacier, MT, Pondera, MT.
Brigham City Intermountain School Health Center, Utah | (⁴)
Burns Paiute Tribe | Harney, OR.
California | Entire State, except for the counties listed in the footnote.⁵
Catawba Indian Nation | All Counties in SC,⁶ Cabarrus, NC, Cleveland, NC, Gaston, NC, Mecklenburg, NC, Rutherford, NC, Union, NC.
Cayuga Nation | Alleghany, NY,⁷ Cattaraugus, NY, Chautauqua, NY, Erie, NY, Warren, PA.
Cheyenne River Sioux Tribe of the Cheyenne River Reservation, South Dakota | Corson, SD, Dewey, SD, Haakon, SD, Meade, SD, Perkins, SD, Potter, SD, Stanley, SD, Sully, SD, Walworth, SD, Ziebach, SD.
Chippewa-Cree Indians of the Rocky Boy's Reservation, Montana | Chouteau, MT, Hill, MT, Liberty, MT.
Chitimacha Tribe of Louisiana | St. Mary Parish, LA.
Cocopah Tribe of Arizona | Yuma, AZ, Imperial, CA.
Coeur D'Alene Tribe | Benewah, ID, Kootenai, ID, Latah, ID, Spokane, WA, Whitman, WA.
Colorado River Indian Tribes of the Colorado River Indian Reservation, Arizona and California | La Paz, AZ, Riverside, CA, San Bernardino, CA, Yuma, AZ.
Confederated Salish and Kootenai Tribes of the Flathead Reservation | Flathead, MT, Lake, MT, Missoula, MT, Sanders, MT.
Confederated Tribes and Bands of the Yakama Nation | Klickitat, WA, Lewis, WA, Skamania, WA,⁸ Yakima, WA.
Confederated Tribes of Siletz Indians of Oregon | Benton, OR,⁹ Clackamas, OR, Lane, OR, Lincoln, OR, Linn, OR, Marion, OR, Multnomah, OR, Polk, OR, Tillamook, OR, Washington, OR, Yam Hill, OR.
Confederated Tribes of the Chehalis Reservation | Grays Harbor, WA, Lewis, WA, Thurston, WA.
Confederated Tribes of the Colville Reservation | Chelan, WA,¹⁰ Douglas, WA, Ferry, WA, Grant, WA, Lincoln, WA, Okanogan, WA, Stevens, WA.
Confederated Tribes of the Coos, Lower Umpqua and Siuslaw Indians | Coos, OR,¹¹ Curry, OR, Douglas, OR, Lane, OR, Lincoln, OR.
Confederated Tribes of the Goshute Reservation, Nevada and Utah | Nevada, Juab, UT, Toole, UT.
Confederated Tribes of the Grand Ronde Community of Oregon | Marion, OR, Multnomah, OR, Polk, OR,¹² Tillamook, OR, Washington, OR, Yam Hill, OR.
Confederated Tribes of the Umatilla Indian Reservation | Umatilla, OR, Union, OR.
Confederated Tribes of the Warm Springs Reservation of Oregon | Clackamas, OR, Jefferson, OR, Linn, OR, Marion, OR, Wasco, OR.
Coquille Indian Tribe | Coos, OR, Curry, OR, Douglas, OR, Jackson, OR, Lane, OR.
Coushatta Tribe of Louisiana | Allen Parish, LA, Elton, LA.¹³
Cow Creek Band of Umpqua Tribe of Indians | Coos, OR,¹⁴ Deshutes, OR, Douglas, OR, Jackson, OR, Josephine, OR, Klamath, OR, Lane, OR.
Cowlitz Indian Tribe | Columbia, OR,¹⁵ Clark, WA, Cowlitz, WA, King, WA, Lewis, WA, Peirce, WA, Skamania, WA, Thurston, WA, Kittitas, WA, Wahkiakum, WA.
Crow Creek Sioux Tribe of the Crow Creek Reservation, South Dakota | Brule, SD, Buffalo, SD, Hand, SD, Hughes, SD, Hyde, SD, Lyman, SD, Stanley, SD.
Crow Tribe of Montana | Big Horn, MT, Carbon, MT, Treasure, MT,¹⁶ Yellowstone, MT, Big Horn, WY, Sheridan, WY.
Eastern Band of Cherokee Indians | Cherokee, NC, Graham, NC, Haywood, NC, Jackson, NC, Swain, NC.
Eastern Shoshone Tribe of the Wind River Reservation, Wyoming | Fremont, WY, Hot Springs, WY, Sublette, WY.
Flandreau Santee Sioux Tribe of South Dakota | Moody, SD.
Forest County Potawatomi Community, Wisconsin | Forest, WI, Marinette, WI, Oconto, WI.
Fort Belknap Indian Community of the Fort Belknap Reservation of Montana | Blaine, MT, Phillips, MT.
Fort McDermitt Paiute and Shoshone Tribes of the Fort McDermitt Indian Reservation, Nevada and Oregon | Nevada, Malheur, OR.
For McDowell Yavapai Nation, Arizona | Maricopa, AZ.
Fort Mojave Indian Tribe of Arizona, California and Nevada | Nevada, Mohave, AZ, San Bernardino, CA.
Gila River Indian Community of the Gila River Indian Reservation, Arizona | Maricopa, AZ, Pinal, AZ.
Grand Traverse Band of Ottawa and Chippewa Indians, Michigan | Antrim, MI,¹⁷ Benzie, MI, Charlevoix, MI, Grand Traverse, MI, Leelanau, MI, Manistee, MI.
Hannahville Indian Community, Michigan | Delta, MI, Menominee, MI.
Haskell Indian Health Center | Douglas, KS.¹⁸
Havasupai Tribe of the Havasupai Reservation, Arizona | Coconino, AZ.
Ho-Chunk Nation of Wisconsin | Adams, WI,¹⁹ Clark, WI, Columbia, WI, Crawford, WI, Dane, WI, Eau Clarrie, WI, Houston, MN, Jackson, WI, Juneau, WI, La Crosse, WI, Marathon, WI, Monroe, WI, Sauk, WI, Shawano, WI, Vernon, WI, Wood, WI.
Hoh Indian Tribe | Jefferson, WA.
Hopi Tribe of Arizona | Apache, AZ, Coconino, AZ, Navajo, AZ.
Houlton Band of Maliseet Indians | Aroostook, ME.²⁰
Hualapai Indian Tribe of the Hualapai Indian Reservation, Arizona | Coconino, AZ, Mohave, AZ, Yavapai, AZ.
Iowa Tribe of Kansas and Nebraska | Brown, KS, Doniphan, KS, Richardson, NE.
Jamestown S'Klallam Tribe | Clallam, WA, Jefferson, WA.
Jena Band of Choctaw Indians | Grand Parish, LA,²¹ LaSalle Parish, LA, Rapides, LA.
Jicarilla Apache Nation, New Mexico | Archuleta, CO, Rio Arriba, NM, Sandoval, NM.
Kaibab Band of Paiute Indians of the Kaibab Indian Reservation, Arizona | Coconino, AZ, Mohave, AZ, Kane, UT.
Kalispel Indian Community of the Kalispel Reservation | Pend Oreille, WA, Spokane, WA.
Kewa Pueblo, New Mexico | Sandoval, NM, Santa Fe, NM.
Keweenaw Bay Indian Community, Michigan | Baraga, MI, Houghton, MI, Ontonagon, MI.
Kickapoo Traditional Tribe of Texas | Maverick, TX.²²
Kickapoo Tribe of Indians of the Kickapoo Reservation in Kansas | Brown, KS, Jackson, KS.
Klamath Tribes | Klamath, OR.²³
Koi Nation of Northern California (formerly known as Lower Lake Rancheria, California) | Lake, CA, Sonoma, CA.²⁴
Kootenai Tribe of Idaho | Boundary, ID.
Lac Courte Oreilles Band of Superior Chippewa Indians of Wisconsin | Sawyer, WI.
Lac du Flambeau Band of Lake Superior Chippewa Indians of the Lac du Flambeau Reservation Wisconsin | Iron, WI, Oneida, WI, Vilas, WI.
Lac Vieux Desert Band of Lake Superior Chippewa Indians of Michigan | Gogebic, MI.
Little River Band of Ottawa Indians, Michigan | Kent, MI,²⁵ Lake, MI, Manistee, MI, Mason, MI Muskegon, MI, Newaygo, MI, Oceana, MI, Ottawa, MI, Wexford, MI.
Little Traverse Bay Bands of Odawa Indians, Michigan | Alcona, MI,²⁶ Alger, MI, Alpena, MI, Antrim, MI, Benzie, MI, Charlevoix, MI, Cheboygan, MI, Chippewa, MI, Crawford, MI, Delta, MI, Emmet, MI, Grand Traverse, MI, Iosco, MI, Kalkaska, MI, Leelanau, MI, Luce, MI, Mackinac, MI, Manistee, MI, Missaukee, MI, Montmorency, MI, Ogemaw, MI, Oscoda, MI, Otsego, MI, Presque Isle, MI, Schoolcraft, MI, Roscommon, MI, Wexford, MI.
Lower Brule Sioux Tribe of the Lower Brule Reservation, South Dakota | Brule, SD, Buffalo, SD, Hughes, SD, Lyman, SD, Stanley, SD.
Lower Elwha Tribal Community | Clallam, WA.
Lower Sioux Indian Community in the State of Minnesota | Redwood, MN, Renville, MN.
Lummi Tribe of the Lummi Reservation | Whatcom, WA.
Makah Indian Tribe of the Makah Indian Reservation | Clallam, WA.
Mashantucket Pequot Indian Tribe | New London, CT.²⁷
Mashpee Wampanoag Tribe | Barnstable, MA, Bristol, MA, Norfolk, MA, Plymouth, MA, Suffolk, MA.²⁸
Match-e-be-nash-she-wish Band of Pottawatomi Indians of Michigan | Allegan, MI,²⁹ Barry, MI, Kalamazoo, MI, Kent, MI, Ottawa, MI.
Menominee Indian Tribe of Wisconsin | Langlade, WI, Menominee, WI, Oconto, WI, Shawano, WI.
Mescalero Apache Tribe of the Mescalero Reservation, New Mexico | Chaves, NM, Lincoln, NM, Otero, NM.
Miccosukee Tribe of Indians | Broward, FL, Collier, FL, Miami-Dade, FL, Hendry, FL.
Minnesota Chippewa Tribe, Minnesota, Bois Forte Band (Nett Lake) | Itasca, MN, Koochiching, MN, St. Louis, MN.
Minnesota Chippewa Tribe, Minnesota, Fond du Lac Band | Carlton, MN, St. Louis, MN.
Minnesota Chippewa Tribe, Minnesota, Grand Portage Band | Cook, MN.
Minnesota Chippewa Tribe, Minnesota, Leech Lake Band | Beltrami, MN, Cass, MN, Hubbard, MN, Itasca, MN.
Minnesota Chippewa Tribe, Minnesota Mille Lacs Band | Aitkin, MN, Kanebec, MN, Mille Lacs, MN, Pine, MN.
Minnesota Chippewa Tribe, Minnesota White Earth Band | Becker, MN, Clearwater, MN, Mahnomen, MN, Norman, MN, Polk, MN.
Mississippi Band of Choctaw Indians | Attala, MS, Jasper, MS,³⁰ Jones, MS, Kemper, MS, Leake, MS, Neshoba, MS, Newton, MS, Noxubee, MS,³¹ Scott, MS,³² Winston, MS.
Mohegan Tribe of Indians of Connecticut | Fairfield, CT, Hartford, CT, Litchfield, CT, Middlesex, CT, New Haven, CT, New London, CT, Tolland, CT, Windham, CT.
Muckleshoot Indian Tribe | King, WA, Pierce, WA.
Narragansett Indian Tribe | Washington, RI.³³
Navajo Nation, Arizona, New Mexico, & Utah | Apache, AZ, Bernalillo, NM, Cibola, NM, Coconino, AZ, Kane, UT, McKinley, NM, Montezuma, CO, Navajo, AZ, Rio Arriba, NM, Sandoval, NM, San Juan, NM, San Juan, UT, Socorro, NM, Valencia, NM.
Nevada | Entire State.³⁴
Nez Perce Tribe | Clearwater, ID, Idaho, ID, Latah, ID, Lewis, ID, Nez Perce, ID.
Nisqually Indian Tribe | Pierce, WA, Thurston, WA.
Nooksack Indian Tribe | Whatcom, WA.
Northern Cheyenne Tribe of the Northern Cheyenne Indian Reservation, Montana | Big Horn, MT, Carter, MT,³⁵ Rosebud, MT.
Northwestern Band of Shoshone Nation | Box Elder, UT.³⁶
Nottawaseppi Huron Band of the Pottawatomi, Michigan | Allegan, MI,³⁷ Barry, MI, Branch, MI, Calhoun, MI, Kalamazoo, MI, Kent, MI, Ottawa, MI.
Oglala Sioux Tribe | Bennett, SD, Cherry, NE, Custer, SD, Dawes, NE, Fall River, SD, Jackson, SD,³⁸ Mellete, SD, Pennington, SD, Shannon, SD, Sheridan, NE, Todd, SD.
Ohkay Owingeh, New Mexico | Rio Arriba, NM.
Oklahoma | Entire State.³⁹
Omaha Tribe of Nebraska | Burt, NE, Cuming, NE, Monona, IA, Thurston, NE, Wayne, NE.
Oneida Nation | Brown, WI, Outagamie, WI.
Oneida Nation of New York | Chenango, NY, Cortland, NY, Herkimer, NY, Madison, NY, Oneida, NY, Onondaga, NY.
Onondaga Nation | Onondaga, NY.
Paiute Indian Tribe of Utah | Iron, UT,⁴⁰ Millard, UT, Sevier, UT, Washington, UT.
Pascua Yaqui Tribe of Arizona | Pima, AZ.⁴¹
Passamaquoddy Tribe | Aroostook, ME,⁴² ⁴³ Hancock, ME,⁴⁴ Washington, ME.
Penobscot Nation | Aroostook, ME,⁴⁵ Penobscot, ME.
Poarch Band of Creeks | Baldwin, AL,⁴⁶ Elmore, AL, Escambia, AL, Mobile, AL, Monroe, AL, Escambia, FL.
Pokagon Band of Pottawatomi Indians, Michigan and Indiana | Allegan, MI,⁴⁷ Berrien, MI, Cass, MI, Elkhart, IN, Kosciusko, IN, La Porte, IN, Marshall, IN, St. Joseph, IN, Starke, IN, Van Buren, MI.
Ponca Tribe of Nebraska | Boyd, NE,⁴⁸ Burt, NE, Charles Mix, SD, Douglas, NE, Hall, NE, Holt, NE, Knox, NE, Lancaster, NE, Madison, NE, Platte, NE, Pottawatomie, IA, Sarpy, NE, Stanton, NE, Wayne, NE, Woodbury, IA.
Port Gamble S'Klallam Tribe | Kitsap, WA.
Prairie Band of Pottawatomi Nation | Jackson, KS.
Prairie Island Indian Community in the State of Minnesota | Goodhue, MN.
Pueblo of Acoma, New Mexico | Cibola, NM.
Pueblo of Cochiti, New Mexico | Sandoval, NM, Santa Fe, NM.
Pueblo of Isleta, New Mexico | Bernalillo, NM, Torrance, NM, Valencia, NM.
Pueblo of Jemez, New Mexico | Sandoval, NM.
Pueblo of Laguna, New Mexico | Bernalillo, NM, Cibola, NM, Sandoval, NM, Valencia, NM.
Pueblo of Nambe, New Mexico | Santa Fe, NM.
Pueblo of Picuris, New Mexico | Taos, NM.
Pueblo of Pojoaque, New Mexico | Rio Arriba, NM, Santa Fe, NM.
Pueblo of San Felipe, New Mexico | Sandoval, NM.
Pueblo of San Ildefonso, New Mexico | Los Alamos, NM, Rio Arriba, NM, Sandoval, NM, Santa Fe, NM.
Pueblo of Sandia, New Mexico | Bernalillo, NM, Sandoval, NM.
Pueblo of Santa Ana, New Mexico | Sandoval, NM.
Pueblo of Santa Clara, New Mexico | Los Alamos, NM, Sandoval, NM, Santa Fe, NM.
Pueblo of Taos, New Mexico | Colfax, NM, Taos, NM.
Pueblo of Tesuque, Mexico | Sana Fe, NM.
Pueblo of Zia, New Mexico | Sandoval, NM.
Puyallup Tribe of the Puyallup Reservation | King, WA, Pierce, WA, Thurston, WA.
Quechan Tribe of the Fort Yuma Indian Reservation, Arizona and California | Yuma, AZ, Imperial, CA.
Quileute Tribe of the Quileute Reservation | Clallam, WA, Jefferson, WA.
Quinault Indian Nation | Grays Harbor, WA, Jefferson, WA.
Rapid City, South Dakota | Pennington, SD.⁴⁹
Red Cliff Band of Lake Superior Chippewa Indians of Wisconsin | Bayfield, WI.
Red Lake Band of Chippewa Indians, Minnesota | Beltrami, MN, Clearwater, MN, Koochiching, MN, Lake of the Woods, MN, Marshall, MN, Pennington, MN, Polk, MN, Roseau, MN.
Rosebud Sioux Tribe of the Rosebud Indian Reservation, South Dakota | Bennett, SD, Cherry, NE, Gregory, SD, Lyman, SD, Mellette, SD, Todd, SD, Tripp, SD.
Sac & Fox Nation of Missouri in Kansas and Nebraska | Brown, KS, Richardson, NE.
Sac & Fox Tribe of the Mississippi in Iowa | Tama, IA.
Saginaw Chippewa Indian Tribe of Michigan | Arenac, MI,⁵⁰ Clare, MI, Isabella, MI, Midland, MI, Missaukee, MI.
Saint Regis Mohawk Tribe | Franklin, NY, St. Lawrence, NY.
Salt River Pima-Maricopa Indian Community of the Salt River Reservation, Arizona | Maricopa, AZ.
Samish Indian Nation | Clallam, WA,⁵¹ Island, WA, Jefferson, WA, King, WA, Kitsap, WA, Pierce, WA, San Juan, WA, Skagit, WA, Snohomish, WA, Whatcom, WA.
San Carlos Apache Tribe of the San Carlos Reservation, Arizona | Apache, AZ, Cochise, AZ, Gila, AZ, Graham, AZ, Greenlee, AZ, Pinal, AZ.
San Juan Southern Paiute Tribe of Arizona | Coconino, AZ, San Juan, UT.
Santee Sioux Nation, Nebraska | Bon Homme, SD, Knox, NE.
Sauk-Suiattle Indian Tribe | Snohomish, WA, Skagit, WA.
Sault Ste. Marie Tribe of Chippewa Indians, Michigan | Alger, MI,⁵² Chippewa, MI, Delta, MI, Luce, MI, Mackinac, MI, Marquette, MI, Schoolcraft, MI.
Seminole Tribe of Florida | Broward, FL, Collier, FL, Miami-Dade, FL, Glades, FL, Hendry, FL.
Seneca Nation of Indians | Alleghany, NY, Cattaraugus, NY, Chautauqua, NY, Erie, NY, Warren, PA.
Shakopee Mdewakanton Sioux Community of Minnesota | Scott, MN.
Shinnecock Indian Nation | Nassau, NY,⁵³ Suffolk, NY.
Shoalwater Bay Tribe of the Shoalwater Bay Indian Reservation | Pacific, WA.
Shoshone-Bannock Tribes of the Fort Hall Reservation | Bannock, ID, Bingham, ID, Caribou, ID, Lemhi, ID,⁵⁴ Power, ID.
Shoshone-Paiute Tribes of the Duck Valley Reservation, Nevada | Nevada, Owyhee, ID.
Sisseton-Wahpeton Oyate of the Lake Traverse Reservation, South Dakota | Codington, SD, Day, SD, Grant, SD, Marshall, SD, Richland, ND, Roberts, SD, Sargent, ND, Traverse, MN.
Skokomish Indian Tribe | Mason, WA.
Skull Valley Band of Goshute Indians of Utah | Tooele, UT.
Snoqualmie Indian Tribe | Island, WA, King, WA,⁵⁵ Mason, WA, Pierce, WA, Snohomish, WA.
Sokaogon Chippewa Community, Wisconsin | Forest, WI.
Southern Ute Indian Tribe of the Southern Ute Reservation, Colorado | Archuleta, CO, La Plata, CO, Montezuma, CO, Rio Arriba, NM, San Juan, NM.
Spirit Lake Tribe, North Dakota | Benson, ND, Eddy, ND, Nelson, ND, Ramsey, ND.
Spokane Tribe of the Spokane Reservation | Ferry, WA, Lincoln, WA, Stevens, WA.
Squaxin Island Tribe of the Squaxin Island Reservation | Mason, WA.
St. Croix Chippewa Indians of Wisconsin | Barron, WI, Burnett, WI, Pine, MN, Polk, WI, Washburn, WI.
Standing Rock Sioux Tribe of North & South Dakota | Adams, ND, Campbell, SD, Corson, SD, Dewey, SD, Emmons, ND, Grant, ND, Morton, ND, Perkins, SD, Sioux, ND, Walworth, SD, Ziebach, SD.
Stillaguamish Tribe of Indians of Washington | Snohomish, WA.
Stockbridge Munsee Community, Wisconsin | Menominee, WI, Shawano, WI.
Suquamish Indian Tribe of the Port Madison Reservation | Kitsap, WA.
Swinomish Indian Tribal Community | Skagit, WA.
Tejon Indian Tribe | Kern, CA.⁵⁶
Three Affiliated Tribes of the Fort Berthold Reservation, North Dakota | Dunn, ND, Mercer, ND, McKenzie, ND, McLean, ND, Mountrail, ND, Ward, ND.
Tohono O'odham Nation of Arizona | Maricopa, AZ, Pima, AZ, Pinal, AZ.
Tolowa Dee-ni' Nation (Smith River Rancheria) | Del Norte, CA, Curry, OR.⁵⁷
Tonawanda Band of Seneca | Genesee, NY, Erie, NY, Niagara, NY.
Tonto Apache Tribe of Arizona | Gila, AZ.
Trenton Service Unit, North Dakota and Montana | Divide, ND,⁵⁸ McKenzie, ND, Williams, ND, Richland, MT, Roosevelt, MT, Sheridan, MT.
Tulalip Tribes of Washington | Snohomish, WA.
Tunica-Biloxi Indian Tribe | Avoyelles, LA, Rapides, LA.⁵⁹
Turtle Mountain Band of Chippewa Indians of North Dakota | Rolette, ND.
Tuscarora Nation | Niagara, NY.
Upper Sioux Community, Minnesota | Chippewa, MN, Yellow Medicine, MN.
Upper Skagit Indian Tribe | Skagit, WA.
Ute Indian Tribe of the Uintah & Ouray Reservation, Utah | Carbon, UT, Daggett, UT, Duchesne, UT, Emery, UT, Grand, UT, Rio Blanco, CO, Summit, UT, Uintah, UT, Utah, UT, Wasatch, UT.
Ute Mountain Ute Tribe | Apache, AZ, La Plata, CO, Montezuma, CO, San Juan, NM, San Juan, UT.
Wampanoag Tribe of Gay Head (Aquinnah) | Dukes, MA,⁶⁰ Barnstable, MA, Bristol, MA, Norfolk, MA, Plymouth, MA, Suffolk, MA.⁶¹
Washoe Tribe of Nevada & California | Nevada, California except for the counties listed in footnote.
White Mountain Apache Tribe of the Fort Apache Reservation, Arizona | Apache, AZ, Coconino, AZ, Gila, AZ, Graham, AZ, Greenlee, AZ, Navajo, AZ.
Wilton Rancheria, California | Sacramento, CA.⁶²
Winnebago Tribe of Nebraska | Dakota, NE, Dixon, NE, Monona, IA, Thurston, NE, Wayne, NE, Woodbury, IA.
Yankton Sioux Tribe of South Dakota | Bon Homme, SD, Boyd, NE, Charles Mix, SD, Douglas, SD, Gregory, SD, Hutchinson, SD, Knox, NE.
Yavapai-Apache Nation of the Camp Verde Indian Reservation, Arizona | Yavapai, AZ.
Yavapai-Prescott Indian Tribe | Yavapai, AZ.
Ysleta Del Sur Pueblo of Texas | El Paso, TX.⁶³
Zuni Tribe of the Zuni Reservation, New Mexico | Apache, AZ, Cibola, NM, McKinley, NM, Valencia, NM
¹ Public Law 100-89, Restoration Act for Ysleta Del Sur and Alabama and Coushatta Tribes of Texas establishes service areas for “members of the Tribe” by sections 101(3) and 105(a) for the Pueblo and sections 201(3) and 206(a) respectively.
² Entire State of Alaska is included as a CHSDA by regulation (42 CFR 136.22(a)(1)).
³ Aroostook Band of Micmacs was recognized by Congress on November 26, 1991, through the Aroostook Band of Micmac Settlement Act. Aroostook County, ME, was defined as the SDA.
⁴ Special programs have been established by Congress irrespective of the eligibility regulations. Eligibility for services at these facilities is based on the legislative history of the appropriation of funds for the particular facility rather than the eligibility regulations. Historically services have been provided at Brigham City Intermountain School Health Center, Utah (Pub. L. 88-358).
⁵ Entire State of California, excluding the counties of Alameda, Contra Costa, Los Angeles, Marin, Orange, Sacramento, San Francisco, San Mateo, Santa Clara, Kern, Merced, Monterey, Napa, San Benito, San Joaquin, San Luis Obispo, Santa Cruz, Solano, Stanislaus, and Ventura, is designated a CHSDA (25 U.S.C. 1680).
⁶ The counties were recognized after the January 1984 CHSDA FRN was published, in accordance with Public Law 103-116, Catawba Indian Tribe of South Carolina Land Claims Settlement Act of 1993, dated October 27, 1993.
⁷ There is no reservation for the Cayuga Nation; the service delivery area consists of those counties identified by the Cayuga Nation.
⁸ Skamania County, WA, has historically been a part of the Yakama Service Unit population since 1979.
⁹ In order to carry out the Congressional intent of the Siletz Restoration Act, Public Law 95-195, as expressed in H. Report No. 95-623, at page 4, members of the Confederated Tribes of Siletz Indians of Oregon residing in these counties are eligible for contract health services.
¹⁰ Chelan County, WA, has historically been a part of the Colville Service Unit population since 1970.
¹¹ Pursuant to Public Law 98-481 (H. Rept. No. 98-904), Coos, Lower Umpqua and Siuslaw Restoration Act, members of the Tribe residing in these counties were specified as eligible for Federal services and benefits without regard to the existence of a Federal Indian reservation.
¹² The Confederated Tribes of Grand Ronde Community of Oregon were recognized by Public Law 98-165 which was signed into law on November 22, 1983, and provides for eligibility in these six counties without regard to the existence of a reservation.
¹³ The CHSDA for the Coushatta Tribe of Louisiana was expanded administratively by the Director, IHS, through regulation (42 CFR 136.22(6)) to include city limits of Elton, LA.
¹⁴ Cow Creek Band of Umpqua Tribe of Indians recognized by Public Law 97-391, signed into law on December 29, 1983. House Rept. No. 97-862 designates Douglas, Jackson, and Josephine Counties as a service area without regard to the existence of a reservation. The IHS later administratively expanded the CHSDA to include the counties of Coos, OR, Deshutes, OR, Klamath, OR, and Lane, OR.
¹⁵ The Cowlitz Indian Tribe was recognized in July 2002 as documented at 67 FR 46329, July 12, 2002. The counties listed were designated administratively as the SDA, to function as a CHSDA, for the purposes of operating a CHS program pursuant to the ISDEAA, Public Law 93-638. The CHSDA was administratively expanded to included Columbia County, OR, Kittitas, WA, and Wahkiakum County, WA, as published at 67884 FR December 21, 2009.
¹⁶ Treasure County, MT, has historically been a part of the Crow Service Unit population.
¹⁷ The counties listed have historically been a part of the Grand Traverse Service Unit population since 1980.
¹⁸ Haskell Indian Health Center has historically been a part of Kansas Service Unit since 1979. Special programs have been established by Congress irrespective of the eligibility regulations. Eligibility for services at these facilities is based on the legislative history of the appropriation of funds for the particular facility rather than the eligibility regulations. Historically services have been provided at Haskell Indian Health Center (H. Rept. No. 95-392).
¹⁹ CHSDA counties for the Ho-Chunk Nation of Wisconsin were designated by regulation (42 CFR 136.22(a)(5)). Dane County, WI, was added to the reservation by the Bureau of Indian Affairs in 1986.
²⁰ Public Law 97-428 provides that any member of the Houlton Band of Maliseet Indians in or around the Town of Houlton shall be eligible without regard to existence of a reservation.
²¹ The Jena Band of Choctaw Indian was Federally acknowledged as documented at 60 FR 28480, May 31, 1995. The counties listed were designated administratively as the SDA, to function as a CHSDA, for the purposes of operating a CHS program pursuant to the ISDEAA, Public Law 93-638.
²² Kickapoo Traditional Tribe of Texas, formerly known as the Texas Band of Kickapoo, was recognized by Public Law 97-429, signed into law on January 8, 1983. The Act provides for eligibility for Kickapoo Tribal members residing in Maverick County without regard to the existence of a reservation.
²³ The Klamath Indian Tribe Restoration Act (Pub. L. 99-398, Sec. 2(2)) states that for the purpose of Federal services and benefits “members of the tribe residing in Klamath County shall be deemed to be residing in or near a reservation”.
²⁴ The Koi Nation of Northern California, formerly known as the Lower Lake Rancheria, was reaffirmed by the Secretary of the Bureau of Indian Affairs on December 29, 2000. The counties listed were designated administratively as the SDA, to function as a PRC SDA, for the purposes of operating a PRC program pursuant to the ISDEAA, Public Law 93-638.
²⁵ The Little Traverse Bay Bands of Odawa Indians and the Little River Band of Ottawa Indians Act recognized the Little River Band of Ottawa Indians and the Little Traverse Bay Bands of Odawa Indians. Pursuant to Public Law 103-324, Sec.4 (b) the counties listed were designated administratively as the SDA, to function as a CHSDA, for the purposes of operating a CHS program pursuant to the ISDEAA, Public Law 93-638.
²⁶ The Little Traverse Bay Bands of Odawa Indians and the Little River Band of Ottawa Indians Act recognized the Little River Band of Ottawa Indians and the Little Traverse Bay Bands of Odawa Indians. Pursuant to Public Law 103-324, Sec.4 (b) the counties listed were designated administratively as the SDA, to function as a CHSDA, for the purposes of operating a CHS program pursuant to the ISDEAA, Public Law 93-638.
²⁷ Mashantucket Pequot Indian Claims Settlement Act, Public Law 98-134, signed into law on October 18, 1983, provides a reservation for the Mashantucket Pequot Indian Tribe in New London County, CT.
²⁸ The Mashpee Wampanoag Tribe was recognized in February 2007, as documented at 72 FR 8007, February 22, 2007. The counties listed were designated administratively as the SDA, to function as a CHSDA, for the purposes of operating a CHS program pursuant to the ISDEAA, Public Law 93-638.
²⁹ The Match-e-be-nash-she-wish Band of Pottawatomi Indians of Michigan was recognized in October 1998, as documented at 63 FR 56936, October 23, 1998. The counties listed were designated administratively as the SDA, to function as a CHSDA, for the purposes of operating a CHS program pursuant to the ISDEAA, Public Law 93-638.
³⁰ Members of the Mississippi Band of Choctaw Indians residing in Jasper and Noxubee Counties, MS, are eligible for contract health services; these two counties were inadvertently omitted from 42 CFR 136.22.
³¹ Members of the Mississippi Band of Choctaw Indians residing in Jasper and Noxubee Counties, MS, are eligible for contract health services; these two counties were inadvertently omitted from 42 CFR 136.22.
³² Scott County, MS, has historically been a part of the Choctaw Service Unit population since 1970.
³³ The Narragansett Indian Tribe was recognized by Public Law 95-395, signed into law September 30, 1978. Lands in Washington County, RI, are now Federally restricted and the Bureau of Indian Affairs considers them as the Narragansett Indian Reservation.
³⁴ Entire State of Nevada is included as a CHSDA by regulation (42 CFR 136.22 (a)(2))
³⁵ Carter County, MT, has historically been a part of the Northern Cheyenne Service Unit population since 1979.
³⁶ Land of Box Elder County, Utah, was taken into trust for the Northwestern Band of Shoshoni Nation in 1986.
³⁷ The Nottawaseppi Huron Band of the Potawatomi, Michigan, formerly known as the Huron Band of Potawatomi, Inc., was recognized in December 1995, as documented at 60 FR 66315, December 21, 1995. The counties listed were designated administratively as the SDA, to function as a CHSDA, for the purposes of operating a CHS program pursuant to the ISDEAA, Public Law 93-638.
³⁸ Washabaugh County, SD, merged and became part of Jackson County, SD, in 1983; both were/are CHSDA counties for the Oglala Sioux Tribe.
³⁹ Entire State of Oklahoma is included as a CHSDA by regulation (42 CFR 136.22 (a)(3)).
⁴⁰ Paiute Indian Tribe of Utah Restoration Act, Public Law 96-227, provides for the extension of services for the Paiute Indian Tribe of Utah to these four counties without regard to the existence of a reservation.
⁴¹ Legislative history (H.R. Report No. 95-1021) to Public Law 95-375, Extension of Federal Benefits to Pascua Yaqui Indians, Arizona, expresses congressional intent that lands conveyed to the Pascua Yaqui Tribe of Arizona pursuant to Act of October 8, 1964. (Pub. L. 88-350) shall be deemed a Federal Indian Reservation.
⁴² The Maine Indian Claims Settlement Act of 1980 (Pub. L. 96-420; H. Rept. 96-1353) includes the intent of Congress to fund and provide contract health services to the Passamaquoddy Tribe and the Penobscot Nation.
⁴³ The Passamaquoddy Tribe has two reservations: Indian Township and Pleasant Point. The PRC SDA for the Passamaquoddy Tribe at Indian Township, ME, is Aroostook County, ME, Washington County, ME, and Hancock County, ME. The PRC SDA for the Passamaquoddy Tribe at Pleasant Point, ME, is Washington County, ME, south of State Route 9, and Aroostook County, ME.
⁴⁴ The Passamaquoddy Tribe's counties listed are designated administratively as the SDA, to function as a PRC SDA, for the purposes of operating a PRC program pursuant to the ISDEAA, Public Law 93-638.
⁴⁵ The Maine Indian Claims Settlement Act of 1980 (Pub. L. 96-420; H. Rept. 96-1353) includes the intent of Congress to fund and provide PRC to the Passamaquoddy Tribe and the Penobscot Nation.
⁴⁶ Counties in the Service Unit designated by Congress for the Poarch Band of Creek Indians (see H. Rept. 98-886, June 29, 1984; Cong. Record, October 10, 1984, Pg. H11929).
⁴⁷ Public Law 103-323 restored Federal recognition to the Pokagon Band of Potawatomi Indians, Michigan and Indiana, in 1994 and identified counties to serve as the SDA.
⁴⁸ The Ponca Restoration Act, Public Law 101-484, recognized members of the Ponca Tribe of Nebraska in Boyd, Douglas, Knox, Madison or Lancaster counties of Nebraska or Charles Mix county of South Dakota as residing on or near a reservation. Public Law 104-109 made technical corrections to laws relating to Native Americans and added Burt, Hall, Holt, Platte, Sarpy, Stanton, and Wayne counties of Nebraska and Pottawatomie and Woodbury counties of Iowa to the Ponca Tribe of Nebraska SDA.
⁴⁹ Special programs have been established by Congress irrespective of the eligibility regulations. Eligibility for services at these facilities is based on the legislative history of the appropriation of funds for the particular facility, rather than the eligibility regulations. Historically services have been provided at Rapid City (S. Rept. No. 1154, FY 1967 Interior Approp. 89th Cong. 2d Sess.).
⁵⁰ Historically part of Isabella Reservation Area for the Saginaw Chippewa Indian Tribe of Michigan and the Eastern Michigan Service Unit population since 1979.
⁵¹ The Samish Indian Tribe Nation was Federally acknowledged in April 1996 as documented at 61 FR 15825, April 9, 1996. The counties listed were designated administratively as the SDA, to function as a CHSDA, for the purposes of operating a CHS program pursuant to the ISDEAA, Public Law 93-638.
⁵² CHSDA counties for the Sault Ste. Marie Tribe of Chippewa Indians, Michigan, were designated by regulation (42 CFR 136.22(a)(4)).
⁵³ The Shinnecock Indian Nation was Federally acknowledged in June 2010 as documented at 75 FR 34760, June 18, 2010. The counties listed were designated administratively as the SDA, to function as a CHSDA, for the purposes of operating a CHS program pursuant to the ISDEAA, Public Law 93-638.
⁵⁴ Lemhi County, ID, has historically been a part of the Fort Hall Service Unit population since 1979.
⁵⁵ The Snoqualmie Indian Tribe was Federally acknowledged in August 1997 as documented at 62 FR 45864, August 29, 1997. The counties listed were designated administratively as the SDA, to function as a CHSDA, for the purposes of operating a CHS program pursuant to the ISDEAA, Public Law 93-638.
⁵⁶ On December 30, 2011 the Office of Assistant Secretary-Indian Affairs reaffirmed the Federal recognition of the Tejon Indian Tribe. The county listed was designated administratively as the SDA, to function as a CHSDA, for the purposes of operating a CHS program pursuant to the ISDEAA, Public Law 93-638.
⁵⁷ The counties listed are designated administratively as the SDA, to function as a PRC SDA, for the purposes of operating a PRC program pursuant to the ISDEAA, Public Law 93-638.
⁵⁸ The Secretary acting through the Service is directed to provide contract health services to Turtle Mountain Band of Chippewa Indians that reside in Trenton Service Unit, North Dakota and Montana, in Divide, Mackenzie, and Williams counties in the state of North Dakota and the adjoining counties of Richland, Roosevelt, and Sheridan in the state of Montana (Sec. 815, Pub. L. 94-437).
⁵⁹ Rapides County, LA, has historically been a part of the Tunica Biloxi Service Unit population since 1982.
⁶⁰ According to Public Law 100-95, Sec. 12, members of the Wampanoag Tribe of Gay Head (Aquinnah) residing on Martha's Vineyard are deemed to be living on or near an Indian reservation for the purposes of eligibility for Federal services.
⁶¹ The counties listed are designated administratively as the SDA, to function as a PRC SDA, for the purposes of operating a PRC program pursuant to the ISDEAA, Public Law 93-638.
⁶² The Wilton Rancheria, California had Federal recognition restored in July 2009 as documented at 74 FR 33468, July 13, 2009. Sacramento County, CA, was designated administratively as the SDA, to function as a CHSDA. Sacramento County was not covered when Congress originally established the State of California as a CHSDA excluding certain counties including Sacramento County (25 U.S.C. 1680).
⁶³ Public Law 100-89, Restoration Act for Ysleta Del Sur and Alabama and Coushatta Tribes of Texas establishes service areas for “members of the Tribe” by sections 101(3) and 105(a) for the Pueblo and sections 201(3) and 206(a) respectively.

Dated: March 7, 2017.
Chris Buchanan, RADM,
Assistant Surgeon General, USPHS, Acting Director, Indian Health Service.

[FR Doc. 2017-06383 Filed 3-30-17; 8:45 am]

BILLING CODE 4160-16-P